DEPARTMENT OF EDUCATION

Office of Special Education and Rehabilitative Services, Individuals With Disabilities Education Act, as Amended by the Individuals With Disabilities Education Improvement Act of 2004

ACTION: Notice of public meeting to seek comments and suggestions on regulatory issues under the Individuals with Disabilities Education Act (IDEA), as amended by the Individuals with Disabilities Education Improvement Act of 2004.

SUMMARY: The Secretary announces plans to hold the third of a series of public meetings to seek comments and suggestions from the public prior to developing and publishing proposed regulations to implement programs under the recently revised Individuals with Disabilities Education Act.

Date and Time of Public Meeting: Monday, February 7, 2005 from 3:30 p.m. to 5:30 p.m. and from 6:30 p.m. to 8:30 p.m.

ADDRESSES: Sheraton Boston Hotel, Prudential Center, 39 Dalton Street, Boston, MA 02199.

FOR FURTHER INFORMATION CONTACT: Troy R. Justesen. Telephone: (202) 245-7468.

SUPPLEMENTARY INFORMATION:

Background

On December 3, 2004, the President signed into law Public Law 108-446, the Individuals with Disabilities Education Improvement Act of 2004, amending the Individuals with Disabilities Education Act (IDEA). Copies of the new law may be obtained at the following Web site: http://www.gpoaccess.gov/plaws/index.html.

Enactment of the new law provides an opportunity to consider improvements in the regulations implementing the IDEA (including both formula and discretionary grant programs) that would strengthen the Federal effort to ensure every child with a disability has available a free appropriate public education that—(1) is of high quality, and (2) is designed to achieve the high standards reflected in the No Child Left Behind Act and regulations.

The Office of Special Education and Rehabilitative Services will be holding a series of public meetings during the first few months of calendar year 2005 to seek input and suggestions for developing regulations, as needed, based on the Individuals with Disabilities Education Improvement Act of 2004.

This notice provides specific information about the third of these meetings, scheduled for Boston, MA (see Date and Time of Public Meeting earlier in this Notice). Other informal meetings will be conducted in the following locations:

• Atlanta, GA;

• San Diego, CA;

• Laramie, WY; and

• Washington, DC.

In subsequent Federal Register notices, we will notify you of the specific dates and locations of each of these meetings, as well as other relevant information.

Individuals who need accommodations for a disability in order to attend the meeting (i.e., interpreting services, assistive listening devices, and material in alternative format) should notify the contact person listed under FOR FURTHER INFORMATION CONTACT. The meeting location is accessible to individuals with disabilities.

Dated: January 14, 2005.
John H. Hager,
Assistant Secretary for Special Education and Rehabilitative Services.

[FR Doc. E5-211 Filed 1-19-05; 8:45 am]

BILLING CODE 4000-01-P